DEPARTMENT OF TRANSPORTATION

Federal Aviation Administration

14 CFR Parts 21 and 25

[Docket No. FAA-2023-1463]

Draft Notice Regarding Submittal and Disclosure of Safety Critical Information by Applicants for Transport Category Airplane Type Certificates

AGENCY: Federal Aviation Administration (FAA), DOT.

ACTION: Notice of availability; request for comments.

SUMMARY: This draft Notice, as part of the FAA's implementation of the Aircraft Certification, Safety, and Accountability Act, would provide additional guidance regarding the process for applying for a new or amended type certificate (TC) for a transport category airplane. This guidance would facilitate the provision of safety critical information about the applicant's proposed design to the FAA.

DATES: Comments on the draft Notice must be received on or before August 25, 2023.

ADDRESSES: Send comments with the subject line, “Submittal and Disclosure of Safety Critical Information by Applicants for Transport Category Airplane Type Certificates” identified by docket number FAA-2023-1463, using the following method:

• Federal eRegulations Portal: Go to https://www.regulations.gov and follow the online instructions for sending your comments electronically.

• Mail: Send comments to Docket Operations, M-30, U.S. Department of Transportation (DOT), 1200 New Jersey Avenue SE, Room W12-140, West Building Ground Floor, Washington, DC 20590-0001.

• Hand Delivery of Courier: Take comments to Docket Operations in Room W12-140 of the West Building Ground Floor at 1200 New Jersey Avenue SE, Washington, DC, between 9 a.m., and 5 p.m., Monday through Friday, except Federal holidays.

• Fax: Fax comments to Docket Operations at 202-493-2251.

Privacy: In addition to the final Notice, the FAA will post all comments it receives, without change, to https://www.regulations.gov/, including any personal information the commenter provides. DOT's complete Privacy Act Statement can be found in the Federal Register published on April 11, 2000 (65 FR 19477-19478), as well as at https://DocketsInfo.dot.gov.

FOR FURTHER INFORMATION CONTACT: Sue McCormick, Product Policy Management: Systems Standards Section, AIR-63A, Organization and Systems Policy Branch, Policy and Standards Division, Aircraft Certification Service, by email at susan.mccormick@faa.gov, or by phone at (206) 231-3242.

SUPPLEMENTARY INFORMATION:

Discussion

Section 105(a) of the Aircraft Certification, Safety, and Accountability Act, Public Law 116-260 (the Act), mandates that the Administrator require the submittal and disclosure of safety critical information by applicants for, or holders of, TCs for transport category airplanes covered under title 14, Code of Federal Regulations (14 CFR) part 25. As detailed in the draft Notice, the Act defines safety critical information.

Applicants for transport airplane type certificates currently submit safety critical information with their initial certification plan, and throughout their project. However, it may not be clearly demarcated as safety critical. Therefore, as part of its interim implementation of Section 105(a), the FAA plans to issue a Notice to supplement its application processes to provide guidance for applicants to delineate safety critical information. A draft of the Notice may be examined in the docket and at https://www.faa.gov/aircraft/draft_docs.

Comments Invited

The FAA invites the public to submit comments on the draft Notice, as specified in the ADDRESSES section of this notification. Commenters should include the subject line, “Submittal and Disclosure of Safety Critical Information by Applicants for Transport Category Airplane Type Certificates” and the docket number on all comments submitted to the FAA. The most helpful comments will reference a specific recommendation, explain the reason for any recommended change, and include supporting information. The FAA will consider all comments received on or before the closing date, before issuing the final Notice. The FAA will also consider late-filed comments if it is possible to do so without incurring expense or delay.

Issued in Washington, DC, on July 21, 2023.
Brian Cable,
Manager, Organization and Systems Policy Branch, Policy and Standards Division, Aircraft Certification Service.

[FR Doc. 2023-15821 Filed 7-25-23; 8:45 am]

BILLING CODE 4910-13-P